NUCLEAR REGULATORY COMMISSION

Advisory Committee on Reactor Safeguards; Joint Meeting of the ACRS Subcommittees on Reliability and Probabilistic Risk Assessment and on Plant Operations; Notice of Meeting

The ACRS Subcommittees on Reliability and Probabilistic Risk Assessment and on Plant Operations will hold a joint meeting on November 1, 2002, Room T-2B3, 11545 Rockville Pike, Rockville, Maryland.

The entire meeting will be open to public attendance.

The agenda for the subject meeting shall be as follows:

Friday, November 1, 2002—8:30 a.m. until the conclusion of business.

The joint Subcommittees will be briefed by the staff on progress related to two risk-informed regulatory programs under the scope of the Reactor Oversight Program (ROP), namely: (a) efforts to develop risk-informed improvements to the technical specifications, and (b) progress related to the Industry Trends Program (ITP) index for initiating events. This joint Subcommittee meeting is a follow-up to a prior briefing on the ROP at the 493rd meeting of the ACRS on June 6, 2002. The purpose of this meeting is to gather information, analyze relevant issues and facts, and formulate proposed positions and actions, as appropriate, for deliberation by the full Committee.

Oral statements may be presented by members of the public with the concurrence of the Subcommittee Chairman; written statements will be accepted and made available to the Committee. Persons desiring to make oral statements should notify one of the staff engineers named below five days prior to the meeting, if possible, so that appropriate arrangements can be made. Electronic recordings will be permitted only during those portions of the meeting that are open to the public.

During the initial portion of the meeting, the Subcommittees, along with any of their consultants who may be present, may exchange preliminary views regarding matters to be considered during the balance of the meeting.

The Subcommittees will then hear presentations by and hold discussions with representatives of the NRC staff and other interested persons regarding these matters.

Further information regarding topics to be discussed, whether the meeting has been canceled or rescheduled, and the Chairman's ruling on requests for the opportunity to present oral statements and the time allotted therefor can be obtained by contacting Ms. Maggalean W. Weston (telephone: 301-415-3151) between 7:30 a.m. and 4:15 p.m. (EDT). Persons planning to attend this meeting are urged to contact the above named individual at least two working days prior to the meeting to be advised of any potential changes to the agenda.

Dated: October 17, 2002.
Sher Bahadur,
Associate Director for Technical Support, ACRS/ACNW.

[FR Doc. 02-26997 Filed 10-22-02; 8:45 am]

BILLING CODE 7590-01-P